OFFICE OF SCIENCE AND TECHNOLOGY POLICY

Notice of Availability and Request for Comments; National Nanotechnology Initiative Environmental, Health, and Safety Research Strategy: 2024 Update

AGENCY: Office of Science and Technology Policy (OSTP).

ACTION: Notice of availability and request for comments.

SUMMARY: The National Nanotechnology Coordination Office (NNCO), on behalf of the Nanoscale Science, Engineering, and Technology (NSET) Subcommittee of the Committee on Technology, National Science and Technology Council (NSTC), is requesting comments on the National Nanotechnology Initiative (NNI) Environmental, Health, and Safety (EHS) Research Strategy: 2024 Update (hereinafter “2024 Update”). Federal agencies participating in NSET's Nanotechnology Environmental and Health Implications (NEHI) Working Group developed the draft 2024 Update and seek comments by the EHS research community and the public, as a final stage of public input that will inform the final strategy.

DATES: Interested persons and organizations are invited to submit comments on or before July 22, 2024.

ADDRESSES: Interested individuals and organizations should submit comments electronically via to https://www.regulations.gov/. Due to time constraints, mailed paper submissions will not be accepted, and electronic submissions received after the deadline may not be incorporated or taken into consideration.

Instructions: Federal eRulemaking Portal: Go to https://www.regulations.gov/ to submit your comments electronically. Information on how to use Regulations.gov, including instructions for accessing agency documents, submitting comments, and viewing the docket, is available on the site under “FAQ” (https://www.regulations.gov/faq).

Privacy Note: OSTP's policy is to make all appropriate comments received from members of the public available for public viewing in their entirety on the Federal eRulemaking Portal at https://www.regulations.gov/. Therefore, commenters should be careful to include in their comments only information that they wish to make publicly available. OSTP requests that no proprietary information, copyrighted information, or personally identifiable information be submitted in response to this notice of availability and request for comments.

Information obtained from this Request for Comments may be used by the Government on a non-attribution basis for planning and strategy development. OSTP will not respond to individual submissions. A response to this Request for Comments will not be viewed as a binding commitment to develop or pursue the project or ideas discussed. This Request for Comments is not accepting applications for financial assistance or financial incentives.

Responses containing references, studies, research, and other empirical data that are not widely published should include copies of or electronic links to the referenced materials. Responses from minors, or responses containing profanity, vulgarity, threats, or other inappropriate language or content will not be considered.

Comments submitted in response to this notice are subject to the Freedom of Information Act (FOIA). Responses to this Request for Comments may be posted without change online. Please note that the United States Government will not pay for response preparation, or for the use of any information contained in a response.

FOR FURTHER INFORMATION CONTACT: For additional information, please direct questions to Rhema Bjorkland at info@nnco.nano.gov or 202-517-1050.

SUPPLEMENTARY INFORMATION:

I. Background

Nanotechnology enables us to understand and manipulate atoms and molecules—we can harness changes at the nanoscale to make new and improved materials and devices. Nanotechnology has led to advances in medical treatments, clean energy technologies, and semiconductor chips that serve as the foundation of our modern lives.

The years of research under the vision of the 2011 NNI Environmental, Health, and Safety Research Strategy ¹ has significantly advanced the scientific understanding of EHS issues related to engineered nanomaterials. However, critical gaps in knowledge remain. There are unmet and new needs in nanotechnology-related EHS (nanoEHS) issues that require collaborative action, which will ultimately help solve pressing global challenges, while protecting human and environmental health.

¹ See https://www.nano.gov/sites/default/files/pub_resource/nni_2011_ehs_research_strategy.pdf.

NEHI's efforts to prepare an updated EHS research strategy included a review of the 2011 research strategy. The authors also analyzed NNI supplements to the President's Budget (2019-2023) ² and other relevant articles and reports, released a Request for Information,³ and hosted a public meeting.⁴ NEHI is now offering this draft for comment by the EHS research community and the public, as a final stage of public input that will inform the final strategy.

² See https://www.nano.gov/NNIBudgetSupplementsandStrategicPlans.

³ See https://www.federalregister.gov/documents/2023/05/23/2023-10958/request-for-information-national-nanotechnology-initiative-environmental-health-and-safety-research.

⁴ See https://www.nano.gov/ehsstrategymeeting.

The 2024 update of the NNI EHS research strategy represents the U.S. Government's commitment to steer future research advancements in nanotechnology, aligning with the needs of the economy and society. The document is organized into two major sections: Part A, which outlines progress toward the 2011 EHS research strategy goals, and Part B, which addresses the scope of the research strategy going forward, expands on the unmet needs from Part A, and adds specific actions to support the new needs and challenges identified in the update.

Requests for Comment

While OSTP invites all comments responsive to this request for comments, of key interest is identifying any additional information and data sources that NEHI should consider when updating the strategy. This notice serves as the follow-on to the Request for Information referenced in a Federal Register Notice titled “Request for Information: National Nanotechnology Initiative Environmental, Health, and Safety Research Strategy.” ⁵ Please be specific in comments provided and/or recommendations for changes to the digital resources. Response to this Request for Comments is voluntary.

⁵ See https://www.federalregister.gov/documents/2023/05/23/2023-10958/request-for-information-national-nanotechnology-initiative-environmental-health-and-safety-research.

Dated: June 10, 2024.
Stacy Murphy,
Deputy Chief Operating Officer/Security Officer.

[FR Doc. 2024-13031 Filed 6-12-24; 8:45 am]

BILLING CODE 3270-F1-P